DEPARTMENT OF COMMERCE

National Oceanic and Atmospheric Administration

[I.D. 100400B]

Fisheries of the Exclusive Economic Zone Off Alaska; Catch-Monitoring Standards Workshop

AGENCY: National Marine Fisheries Service (NMFS), National Oceanic and Atmospheric Administration (NOAA), Commerce.

ACTION: Notice of workshop.

SUMMARY: NMFS will present a workshop on proposed catch-monitoring standards for shoreside processors that take deliveries of pollock from the Bering Sea.

DATES: The workshop will be held on Thursday, November 16, 2000, from 9 a.m. to 5 p.m.

ADDRESSES: The workshop will be held at the Nordby Center, located in Fishermen's Terminal, 1711 West Nickerson Street, Seattle, WA.

FOR FURTHER INFORMATION CONTACT: Alan Kinsolving, 907-586-7228.

SUPPLEMENTARY INFORMATION: NMFS is developing a proposed rule to implement the American Fisheries Act (AFA). One aspect of this rulemaking is the development of catch monitoring standards for inshore processors that receive deliveries of pollock harvested in the directed fishery for pollock in Bering Sea. As currently envisioned by NMFS, these standards would require that the AFA shoreside processors develop and implement a Catch Monitoring and Control Plan (Plan). The Plan would address performance standards designed to ensure that all catch delivered to the processor is accurately weighed and accounted for.

NMFS is conducting the November 16, 2000, workshop for interested industry members to provide guidance on the development and implementation of these performance standards.

Special Accommodations

This workshop is physically accessible to people with disabilities. Requests for sign language interpretation or other auxiliary aids should be directed to Alan Kinsolving at 907-586-7228 at least 7 working days prior to the workshop.

Dated: October 5, 2000.
Bruce C. Morehead,
Acting Director, Office of Sustainable Fisheries. National Marine Fisheries Service.

[FR Doc. 00-26083 Filed 10-10-00; 8:45 am]

BILLING CODE 3510-22-S